DEPARTMENT OF VETERANS AFFAIRS

Advisory Committee on Tribal and Indian Affairs, Notice of Meeting

The Department of Veterans Affairs (VA) gives notice under the Federal Advisory Committee Act, 5 U.S.C. ch. 10, that the Advisory Committee on Tribal and Indian Affairs will meet on February 25 and 26, 2025 virtually at this link: https://www.zoomgov.com/meeting/register/hMEvT94gRwO_sFrX1l4reA.

The meeting sessions will begin, and end as follows:

Dates: | Times:
February 25, 2025 | 9 a.m. to 5 p.m.—Pacific Standard Time (PST).
February 26, 2025 | 9 a.m. to 5 p.m. PST.

The meeting sessions will be open to the public.

The purpose of the Committee is to advise the Secretary on all matters relating to Indian tribes, tribal organizations, Native Hawaiian organizations, and Native American Veterans. This includes advising the Secretary on the administration of healthcare services and benefits to American Indian/Alaska Natives and Native Hawaiian Veterans; thereby assessing those needs and whether VA is meeting them.

On February 25, 2025, the agenda will include opening remarks from the VA, CALVET and Indian Health Service (IHS), updates from the VA Office of Tribal Government Relations, VA Office of Tribal Health, Panel on Tribal and Urban Indian Health, the VA San Diego Health Care System—Quality Consultant, and a Veteran Panel with the Veterans Health Administration (VHA) and Veterans Benefits Administration (VBA).

On February 26, 2025, the agenda will include updates from the VHA Veterans Justice Programs, the VHA/Indian Health Service (IHS)/Tribal Health Program (THP)/Urban Indian Organization (UIO), VA Veterans Experience Office (VEO), the San Diego County and San Diego American Legion, VBA Native American Direct Loan (NADL), and the National Cemetery Administration (NCA). Public Comment Period will be from 4:00 p.m. to 5:00 p.m. PST. The comment period may end sooner if no comments are presented or they are exhausted before the end time.

The two-day meeting is open to the public to attend virtually and will be recorded. Individuals who wish to speak during the public comment session are invited to submit a 1-2-page summary of their comments no later than February 17, 2025, for inclusion in the official meeting record. Members of the public may also submit written statements for the Committee's review to Veronica Duncan, at Veronica.Duncan@va.gov. Any member of the public seeking additional information should contact Veronica Duncan at the email address above or by calling 202-905-7294.

Dated: February 5, 2025.
Jelessa M. Burney,
Federal Advisory Committee Management Officer.

[FR Doc. 2025-02410 Filed 2-7-25; 8:45 am]

BILLING CODE 8320-01-P